FEDERAL COMMUNICATIONS COMMISSION

47 CFR Part 73

[DA 01-1861; MM Docket No. 01-177, RM-10196; MM Docket No. 01-178, RM-10195]

Radio Broadcasting Services; Screven, GA; and Wadley, GA

AGENCY: Federal Communications Commission.

ACTION: Proposed rule.

SUMMARY: This document proposes new allotments to Screven, GA and Wadley, GA. The Commission requests comments on a petition filed by International Systems Corp., proposing the allotment of Channel 260A at Screven, Georgia, as the community's first local aural transmission service. Channel 260A can be allotted to Screven in compliance with the Commission's minimum distance separation requirements without a site restriction. The coordinates for Channel 260A at Screven are 31-29-10 North Latitude and 82-01-02 West Longitude. The Commission requests comments on a petition filed by Data+Corp. proposing the allotment of Channel 227A at Wadley, Georgia, as the community's first local aural transmission service. Channel 227A can be allotted to Wadley in compliance with the Commission's minimum distance separation requirements without any site restrictions. The coordinates for Channel 227A at Wadley are 32-52-00 North Latitude and 82-24-15 West Longitude.

DATES: Comments must be filed on or before September 24, 2001, and reply comments on or before October 9, 2001.

ADDRESSES: Federal Communications Commission, Washington, DC 20554. In addition to filing comments with the FCC, interested parties should serve the petitioners, as follows: International Systems Corp.; c/o The Office of Dan J. Alpert, 2120 N. 21st Road, Arlington, Virginia 22201; and Data+Corp.; c/o The Office of Dan J. Alpert, 2120 N. 21st Road, Arlington, Virginia 22201.

FOR FURTHER INFORMATION CONTACT: R. Barthen Gorman, Mass Media Bureau, (202) 418-2180.

SUPPLEMENTARY INFORMATION: This is a synopsis of the Commission's Notice of Proposed Rule Making, MM Docket No. 01-177 and MM Docket No. 01-178, adopted July 25, 2001, and released August 3, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR § 1.1204(b) for rules governing permissible ex parte contacts.

For information regarding proper filing procedures for comments, see 47 CFR §§ 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Georgia, is amended by adding Screven, Channel 260A; and Wadley, Channel 227A.

Federal Communications Commission.
John A. Karousos,
Chief, Allocations Branch, Policy and Rules Division, Mass Media Bureau.

[FR Doc. 01-20293 Filed 8-13-01; 8:45 am]

BILLING CODE 6712-01-P